DEPARTMENT OF ENERGY

Federal Energy Regulatory Commission

[Docket No. CP10-12-000]

Florida Gas Transmission Company, LLC; Notice of Staff Protest to Proposed Blanket Certificate Activity

January 7, 2010.

Commission staff (Protestor) hereby protests the prior notice request filed under the provisions of Part 157, subpart F, of the Commission's regulations, by Florida Gas Transmission Company, LLC (FGT) on October 29, 2009 in the above referenced docket. Pursuant to its Part 157, subpart F, blanket certificate authority, FGT proposes to replace, upgrade, and relocate portions of the existing St. Petersburg and Clearwater South Laterals and Block Valve 24-10 in the City of Clearwater, Pinellas County, Florida. Protestor seeks to have this prior notice request processed as a case-specific application filed under section 7(c) of the Natural Gas Act (NGA) and Part 157, subpart A, of the Commission's regulations.¹

¹ Section 157.205(f) provides that a protested prior notice filing shall be treated as though it had filed a case-specific application under NGA section 7, unless, pursuant to section 157.205(g) the protestor withdraws its protest within 30 days after protests were due.

Protestor notes that FGT did not provide documentation from the U.S. Fish and Wildlife Service (USFWS) to demonstrate the Project's compliance with the Endangered Species Act, as required under section 157.208(c)(9) of the Commission's regulations. Without the clearance from USFWS, environmental concerns cannot be adequately addressed before the protest period expires on January 8, 2010.

Kimberly D. Bose,
Secretary.

[FR Doc. 2010-536 Filed 1-13-10; 8:45 am]

BILLING CODE 6717-01-P